DEPARTMENT OF TRANSPORTATION

National Highway Traffic Safety Administration

[Docket No. NHTSA-2013-0080; Notice 1]

Combi USA, Inc., Receipt of Petition for Decision of Inconsequential Noncompliance

AGENCY: National Highway Traffic Safety Administration, DOT.

ACTION: Receipt of petition.

SUMMARY: Combi USA, Inc., (Combi),¹ has determined that certain model child restraint systems manufactured between 2007 and 2012, do not fully comply with paragraph 5.4.1.2(a) of Federal Motor Vehicle Safety Standard (FMVSS) No. 213, Child Restraint Systems. Combi has filed an appropriate report dated June 9, 2013, pursuant to 49 CFR Part 573, Defect and Noncompliance Responsibility and Reports.

¹ Combi USA, Inc., is a U.S. company that manufactures child restraint systems.

Pursuant to 49 U.S.C. 30118(d) and 30120(h) (see implementing rule at 49 CFR Part 556), Combi has petitioned for an exemption from the notification and remedy requirements of 49 U.S.C. Chapter 301 on the basis that this noncompliance is inconsequential to motor vehicle safety.

This notice of receipt of Combi's petition is published under 49 U.S.C. 30118 and 30120 and does not represent any agency decision or other exercise of judgment concerning the merits of the petition.

Child Restraints Involved: Affected are approximately 23,357 Combi Coccoro child restraint systems manufactured between 2009-2012, 5,391 Combi Zeus 360 child restraint systems manufactured between 2009-2012, and 4,391 Combi Zeus Turn child restraint systems manufactured between 2007-2009.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject 33,139 ² child restraint systems that Combi no longer controlled at the time it determined that the noncompliance existed.

² Combi's petition, which was filed under 49 CFR Part 556, requests an agency decision to exempt Combi as a child restraint system manufacturer from the notification and recall responsibilities of 49 CFR Part 573 for the 33,139 affected restraints. However, a decision on this petition cannot relieve child restraint system distributors and dealers of the prohibitions on the sale, offer for sale, introduction or delivery for introduction into interstate commerce of the noncompliant restraints under their control after Combi notified them that the subject noncompliance existed.

Noncompliance: Combi states that the noncompliance is that due to an imbedded stop button within the harness system of the affected child restraint systems, the harness webbing does not meet the minimum breaking strength requirements of FMVSS No. 213 paragraph 5.4.1.2(a).

Rule Text: Section S5.4.1.2 (a) of FMVSS No. 213 states, in pertinent part:

. . . The webbing of belts provided with a child restraint system and used to attach the system to the vehicle or to restrain the child within the system shall . . .

(a) Have a minimum breaking strength for new webbing . . . not less than 11,000 N in case of the webbing used to secure a child to a child restraint system when tested in accordance with S5.1 of FMVSS No. 209 . . .

Summary of Combi's Analyses: Combi explains that the harness webbing of the subject Coccoro and Zeus child restraint systems does not meet the minimum breaking strength requirements of FMVSS No. 213 and is inconsequential to motor vehicle safety for the following reasons:

1. Combi states that the production of the Zeus Turn child restraint system ended on March 25, 2009, and that the production of the Zeus 360 child restraint system ended on May 24, 2012.

2. Combi also stated that all of the subject Coccoro child restraint systems were produced with the identical harness system as tested by NHTSA in 2012. Combi further noted that all of the subject Zeus 360 and Zeus Turn child restraint systems were produced with the same imbedded stop button within the harness system as the Coccoro child restraints tested by NHTSA in 2012. Combi's petition includes discussion of the test results of NHTSA's 2012 compliance testing of the subject Coccoro child restraint system harness webbing which yielded breaking strength test results of 8990 N, 9170 N, and 9300 N.

3. Combi also explained that given the relative small number of subject Coccoro, Zeus 360, and Zeus Turn child restraints, the effectiveness of any notification campaign regarding this technical noncompliance will be limited. Combi further states that any noncompliance notice campaign may result in customers deciding to discontinue using their Coccoro and Zeus child restraints for a period of time, adding a risk of injury where none exists as a result of the noncompliance of the harness webbing of the subject Coccoro and Zeus child restraints with the minimum breaking strength requirements of FMVSS No. 213.

4. Combi also provided testing data of the force loading on the harness system of the Coccoro and Zeus 360 child restraint when subjected to the FMVSS No. 213 dynamic crash pulse (30 mph crash pulse) and the NCAP pulse (35 mph crash pulse). The test results showed load cell values ranging from approximately 1150 N to 1900 N. Combi stated that these results confirm that the harness assemblies of the subject Coccoro, Zeus 360, and Zeus Turn child restraints will under no circumstances fail in a real world crash, as the forces acting on the harness system in dynamic testing are less than 22 percent of the breaking strength test results determined by NHTSA. Combi therefore believes that the harness assemblies of the subject Coccoro and Zeus child restraints present no motor vehicle safety risk.

5. Combi further explained that they have not received any notice from any source, including but not limited to NHTSA, of any partial or complete breakage or tearing of the harness system in any Coccoro and Zeus child restraints.

6. Combi also stated that they have implemented an engineering modification to all production of the Coccoro child restraints produced to remove the imbedded stop button since January 29, 2013.

In summation, Combi believes that the described noncompliance is inconsequential to motor vehicle safety, and that its petition, to exempt it from providing notification of noncompliance as required by 49 U.S.C. 30118 and remedying the noncompliance as required by 49 U.S.C. 30120, should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment Closing Date: September 9, 2013.

Authority: 49 U.S.C. 30118, 30120: delegations of authority at CFR 1.95 and 501.8.

Dated: July 31, 2013.
Claude H. Harris,
Director, Office of Vehicle Safety Compliance.

[FR Doc. 2013-19278 Filed 8-8-13; 8:45 am]

BILLING CODE 4910-59-P